DEPARTMENT OF ENERGY

Federal Energy Regulatory Commission

[Docket No. CP12-112-000]

Southern Natural Gas Company, L.L.C.; Notice of Filing

Take notice that on April 5, 2012, Southern Natural Gas Company, L.L.C. (Southern), 569 Brookwood Village, Suite 501, Birmingham, Alabama 35209, filed an application, pursuant to Section 7(b) of the Natural Gas Act (NGA), for authorization to abandon in place 19.57 miles of its 24-inch North Main Loop Line and appurtenant facilities (Abandoned Segment) located in Calhoun and Cleburne Counties, Alabama. Also, Southern, pursuant to Section 7(c) of the NGA, requests a certificate of public convenience and necessity authorizing Southern to construct, install, and operate a 2.25 mile, 3-inch diameter lateral off of Southern's North Main Line. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

Southern states that it experienced a wrinkle bend failure on its North Main Loop Line. In response to a Corrective Action Order issued by the Southern Region of the Pipeline and Hazardous Materials Safety Administration, and Southern's testing and analysis; Southern has identified for abandonment in-place of 19.57 miles of pipeline and appurtenant facilities. Southern also states that the 2.25 mile lateral will be constructed parallel with the Abandoned Segment and provide sufficient capacity to continue serving its existing firm customer at the Heflin Gate Meter Station. The cost of the proposed project is estimated to be $2,203,000.

Any questions regarding the application are to be directed to Patricia S. Francis, Associate General Counsel, Southern Natural Gas Company, L.L.C., 569 Brookwood Village, Suite 501, Birmingham, Alabama 35209; phone number (205) 325-3813; email: Glenn.Sheffield@elpaso.com.

Any person wishing to obtain legal status by becoming a party to the proceedings for this project should, on or before the below listed comment date, file with the Federal Energy Regulatory Commission, 888 First Street NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Motions to intervene, protests and comments may be filed electronically via the Internet in lieu of paper, see, 18 CFR 385.2001 (a)(1)(iii) and the instructions on the Commission's web site under the “e-Filing” link. The Commission strongly encourages electronic filings.

Comment Date: May 8, 2012.

Dated: April 17, 2012.
Kimberly D. Bose,
Secretary.

[FR Doc. 2012-9765 Filed 4-23-12; 8:45 am]

BILLING CODE 6717-01-P